INTERNATIONAL TRADE COMMISSION

[Investigation No. 337-TA-854]

Certain Two-Way Global Satellite Communication Devices, System and Components Thereof Issuance of Consent Order; Termination of the Investigation

AGENCY: U.S. International Trade Commission.

ACTION: Notice.

SUMMARY: Notice is hereby given that the U.S. International Trade Commission has determined not to review an initial determination (“ID”) (Order No. 21) of the presiding administrative law judge (“ALJ”) terminating the investigation based on a consent order stipulation.

FOR FURTHER INFORMATION CONTACT: Clint Gerdine, Esq., Office of the General Counsel, U.S. International Trade Commission, 500 E Street SW., Washington, DC 20436, telephone (202) 708-2310. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on September 21, 2012, based on a complaint filed on behalf of BriarTek IP, Inc. of Alexandria, Virginia. 77 FR 58579-80. The complaint alleges violations of section 337 of the Tariff Act of 1930, as amended, 19 U.S.C. 1337, in the importation into the United States, the sale for importation, and the sale within the United States after importation of certain two-way global satellite communication devices, system and components thereof by reason of infringement of certain claims of U.S. Patent No. 7,991,380. The complaint further alleged the existence of a domestic industry. The Commission's notice of investigation named as respondents Yellowbrick Tracking, Ltd. (“Yellowbrick”) of Essex, United Kingdom; DeLorme Publishing Company, Inc.; and DeLorme InReach LLC (collectively, “DeLorme”), both of Yarmouth, Maine.

On December 7, 2012, the Commission determined not to review the ALJ's ID (Order No. 7) terminating Yellowbrick from the investigation based on a settlement agreement. On March 15, 2013, the Commission determined not to review the ALJ's ID (Order No. 17) granting-in-part complainant's motion for summary determination of importation of the accused InReach 1.0 and InReach 1.5 products, and the accused main boards for the InReach 1.5 product with respect to DeLorme.

On March 7, 2013, DeLorme moved to terminate the investigation based on a consent order stipulation. The Commission investigative attorney filed a response in support of the motion and complainant opposed the motion.

The ALJ issued the subject ID on March 15, 2013, granting DeLorme's motion for termination of the investigation. He found that the motion for termination by consent order stipulation satisfied Commission rule 210.21(c)(3). He further found, pursuant to Commission rule 210.50(b)(2), that termination of this investigation by consent order stipulation is in the public interest. No party petitioned for review of the ID.

The Commission has determined not to review the subject ID, and has terminated the investigation.

The authority for the Commission's determination is contained in section 337 of the Tariff Act of 1930, as amended (19 U.S.C. 1337), and in sections 210.21 and 210.42(h) of the Commission's Rules of Practice and Procedure (19 CFR 210.21, 210.42(h)).

By order of the Commission.
Issued: April 5, 2013.
Lisa R. Barton,
Acting Secretary to the Commission.

[FR Doc. 2013-08428 Filed 4-10-13; 8:45 am]

BILLING CODE 7020-02-P